DEPARTMENT OF LABOR

Employment and Training Administration

[TA-W-72,375; TA-W-72,375A]

Commercial Furniture Group, Inc., Including On-Site Leased Workers From Staffing Solutions; Morristown, TN; Commercial Furniture Group, Inc., Chicago, IL; Amended Certification Regarding Eligibility To Apply for Worker Adjustment Assistance

In accordance with Section 223 of the Trade Act of 1974, as amended (“Act”), 19 U.S.C. 2273, the Department of Labor (Department) issued a Certification of Eligibility to Apply for Worker Adjustment Assistance on May 5, 2010, applicable to workers of Commercial Furniture Group, Inc., including on-site leased workers from Staffing Solutions, Morristown, Tennessee. The workers are engaged in employment related to the production of commercial wood furniture. The Department's Notice was published in the Federal Register on May 28, 2010 (75 FR 30070).

At the request of the State agency, the Department reviewed the certification for workers of the subject firm.

New information shows that the Chicago, Illinois location of Commercial Furniture Group, Inc. operates in conjunction with the Morristown, Tennessee location. Both locations experienced worker separations during the relevant time period, declines in sales and/or production, and were impacted by a significant increase in imports of articles like or directly competitive commercial wooden furniture produced by the subject firm.

Accordingly, the Department is amending the certification to include workers of Commercial Furniture Group, Inc., Chicago, Illinois location. The amended notice applicable to TA-W-72,375 is hereby issued as follows:

All workers of Commercial Furniture Group, Inc., including on-site leased workers from Staffing Solutions, Morristown, Tennessee (TA-W-72,375) and Commercial Furniture Group, Inc., Chicago, Illinois (TA-W-72,375A), who became totally or partially separated from employment on or after September 21, 2008, through May 5, 2012, and all workers in the group threatened with total or partial separation from employment on date of certification through two years from the date of certification, are eligible to apply for adjustment assistance under Chapter 2 of Title II of the Trade Act of 1974, as amended.

Signed in Washington, DC, this 17th day of February 2011.
Del Min Amy Chen,
Certifying Officer, Office of Trade Adjustment Assistance.

[FR Doc. 2011-5928 Filed 3-14-11; 8:45 am]

BILLING CODE 4510-FN-P